DEPARTMENT OF ENERGY

Federal Energy Regulatory Commission

Combined Notice of Filings #1

Take notice that the Commission received the following electric rate filings:

Docket Numbers: ER11-4027-003; ER11-4028-003.

Applicants: James River Genco, LLC, Portsmouth Genco, LLC.

Description: Notice of Non-Material Change in Status of James River Genco, LLC, et. al.

Filed Date: 12/5/13.

Accession Number: 20131205-5177.

Comments Due: 5 p.m. ET 12/26/13.

Docket Numbers: ER14-318-001.

Applicants: The Connecticut Light and Power Company.

Description: LCRA with CMEEC Amended to be effective 1/1/2014.

Filed Date: 12/6/13.

Accession Number: 20131206-5087.

Comments Due: 5 p.m. ET 12/27/13.

Docket Numbers: ER14-319-001.

Applicants: Public Service Company of New Hampshire.

Description: Localized Cost Responsibility Agreement with CTMEEC Amended to be effective 1/1/2014.

Filed Date: 12/6/13.

Accession Number: 20131206-5119.

Comments Due: 5 p.m. ET 12/27/13.

Docket Numbers: ER14-320-001.

Applicants: Western Massachusetts Electric Company.

Description: Localized Cost Responsibility Agreement with CTMEEC Amended to be effective 1/1/2014.

Filed Date: 12/6/13.

Accession Number: 20131206-5112.

Comments Due: 5 p.m. ET 12/27/13.

Docket Numbers: ER14-538-000.

Applicants: Ameren Illinois Company.

Description: Sectionalizing Switch Replacement Letter Agreement with NEC to be effective 12/5/2013.

Filed Date: 12/5/13.

Accession Number: 20131205-5146.

Comments Due: 5 p.m. ET 12/26/13.

Docket Numbers: ER14-539-000.

Applicants: Arizona Public Service Company.

Description: Cancellation—Service Agreement No. 327 between APS and the City of Azusa to be effective 12/31/2013.

Filed Date: 12/6/13.

Accession Number: 20131206-5075.

Comments Due: 5 p.m. ET 12/27/13.

Docket Numbers: ER14-540-000.

Applicants: Arizona Public Service Company.

Description: APS Service Agreement No. 329—Azusa Simultaneous Exchange to be effective 2/5/2014.

Filed Date: 12/6/13.

Accession Number: 20131206-5078.

Comments Due: 5 p.m. ET 12/27/13

Docket Numbers: ER14-541-000.

Applicants: Public Service Company of New Mexico.

Description: Order No. 784 Compliance Filing to be effective 11/27/2013.

Filed Date: 12/6/13.

Accession Number: 20131206-5099.

Comments Due: 5 p.m. ET 12/27/13.

Docket Numbers: ER14-542-000.

Applicants: Midcontinent Independent System Operator, Wolverine Power Supply Cooperative, Inc.

Description: 12-06-2013 SA 1316 Wolverine Grand Traverse IFA to be effective 11/8/2013.

Filed Date: 12/6/13.

Accession Number: 20131206-5120.

Comments Due: 5 p.m. ET 12/27/13.

Docket Numbers: ER14-543-000.

Applicants: Niagara Mohawk Power Corporation, New York Independent System Operator, Inc.

Description: Amendment of Niagara Mohawk's Wholesale TSC in the NYISO OATT to be effective 7/1/2013.

Filed Date: 12/6/13.

Accession Number: 20131206-5130.

Comments Due: 5 p.m. ET 12/27/13.

Take notice that the Commission received the following electric securities filings:

Docket Numbers: ES14-13-000.

Applicants: KCP&L Greater Missouri Operations Company.

Description: Application for Authorization of Issuance of Short-Term Debt Securities Under Section 204 of the Federal Power Act of KCP&L Greater Missouri Operations Company.

Filed Date: 12/6/13.

Accession Number: 20131206-5033.

Comments Due: 5 p.m. ET 12/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2013.
Nathaniel J. Davis, Sr.,
Deputy Secretary.

[FR Doc. 2013-29812 Filed 12-13-13; 8:45 am]

BILLING CODE 6717-01-P